DEPARTMENT OF ENERGY

Federal Energy Regulatory Commission

Combined Notice of Filings #1

Take notice that the Commission received the following exempt wholesale generator filings:

Docket Numbers: EG14-50-000.

Applicants: SEP II, LLC.

Description: Notice of Self-Certification of EWG Status of SEP II, LLC.

Filed Date: 5/8/14.

Accession Number: 20140508-5059.

Comments Due: 5 p.m. ET 5/29/14.

Docket Numbers: EG14-51-000.

Applicants: NRG Solar Dandan LLC.

Description: Notice of Self-Certification of Exempt Wholesale Generator Status.

Filed Date: 5/8/14.

Accession Number: 20140508-5126.

Comments Due: 5 p.m. ET 5/29/14.

Take notice that the Commission received the following electric rate filings:

Docket Numbers: ER10-2819-002.

Applicants: ALLETE, Inc.

Description: Supplement to February 28, 2014 Notice of Non-Material Change in Status of ALLETE, Inc.

Filed Date: 4/24/14.

Accession Number: 20140424-5135.

Comments Due: 5 p.m. ET 5/15/14.

Docket Numbers: ER11-4315-002; ER10-3144-002.

Applicants: Gila River Power LLC, Entegra Power Services LLC.

Description: Gila River Power LLC, et. al. Supplement to June 28, 2013 Triennial Market Power Update for the Southwest Region.

Filed Date: 5/7/14.

Accession Number: 20140507-5204.

Comments Due: 5 p.m. ET 5/19/14.

Docket Numbers: ER13-2301-003.

Applicants: Dominion Energy Marketing, Inc.

Description: Compliance Filing—Corrected Attached Tariff to Previous Filing of May 5 to be effective 10/1/2013.

Filed Date: 5/8/14.

Accession Number: 20140508-5000.

Comments Due: 5 p.m. ET 5/20/14.

Docket Numbers: ER14-83-002.

Applicants: Midcontinent Independent System Operator, Inc.

Description: 2014-05-07_Docket No. ER14-83-002_External Resources Compliance to be effective 12/13/2013.

Filed Date: 5/7/14.

Accession Number: 20140507-5139.

Comments Due: 5 p.m. ET 5/28/14.

Docket Numbers: ER14-1290-001.

Applicants: Midcontinent Independent System Operator, Inc.

Description: 2014-05-07_Docket No. ER14-1290-001_Schedule 34 Compliance Filing to be effective 4/8/2014.

Filed Date: 5/7/14.

Accession Number: 20140507-5132.

Comments Due: 5 p.m. ET 5/28/14.

Docket Numbers: ER14-1902-000.

Applicants: Bendwind, LLC.

Description: Revised Market-Based Rate Tariff to be effective 5/8/2014.

Filed Date: 5/7/14.

Accession Number: 20140507-5148.

Comments Due: 5 p.m. ET 5/28/14.

Docket Numbers: ER14-1903-000.

Applicants: Broken Bow Wind, LLC.

Description: Revised Market-Based Rate Tariff to be effective 5/8/2014.

Filed Date: 5/7/14.

Accession Number: 20140507-5149.

Comments Due: 5 p.m. ET 5/28/14.

Docket Numbers: ER14-1904-000.

Applicants: Crofton Bluffs Wind, LLC.

Description: Revised Market-Based Rate Tariff to be effective 5/8/2014.

Filed Date: 5/7/14.

Accession Number: 20140507-5150.

Comments Due: 5 p.m. ET 5/28/14.

Docket Numbers: ER14-1905-000.

Applicants: Energy Alternatives Wholesale, LLC.

Description: Revised Market-Based Tariff to be effective 5/8/2014.

Filed Date: 5/7/14.

Accession Number: 20140507-5151.

Comments Due: 5 p.m. ET 5/28/14.

Docket Numbers: ER14-1906-000.

Applicants: GenConn Energy LLC.

Description: Revised Market-Based Rate Tariff to be effective 5/8/2014.

Filed Date: 5/7/14.

Accession Number: 20140507-5152.

Comments Due: 5 p.m. ET 5/28/14.

Docket Numbers: ER14-1907-000.

Applicants: Mountain Wind Power, LLC.

Description: Revised Market-Based Rate Tariff to be effective 5/8/2014.

Filed Date: 5/7/14.

Accession Number: 20140507-5156.

Comments Due: 5 p.m. ET 5/28/14.

Docket Numbers: ER14-1908-000.

Applicants: Mountain Wind Power II LLC.

Description: Revised Market-Based Rate Tariff to be effective 5/8/2014.

Filed Date: 5/7/14.

Accession Number: 20140507-5159.

Comments Due: 5 p.m. ET 5/28/14.

Docket Numbers: ER14-1909-000.

Applicants: Storm Lake Power Partners I LLC.

Description: Revised Market-Based Rate Tariff to be effective 5/8/2014.

Filed Date: 5/7/14.

Accession Number: 20140507-5161.

Comments Due: 5 p.m. ET 5/28/14.

Docket Numbers: ER14-1910-000.

Applicants: TAIR Windfarm, LLC.

Description: Revised Market-Based Rate Tariff to be effective 5/8/2014.

Filed Date: 5/7/14.

Accession Number: 20140507-5162.

Comments Due: 5 p.m. ET 5/28/14.

Docket Numbers: ER14-1911-000.

Applicants: Nalcor Energy.

Description: Notice of Cancellation to be effective 5/8/2014.

Filed Date: 5/7/14.

Accession Number: 20140507-5175.

Comments Due: 5 p.m. ET 5/28/14.

Docket Numbers: ER14-1912-000.

Applicants: Midcontinent Independent System Operator, Inc.

Description: Request for limited, one-time waiver of certain provisions of its Open Access Transmission, Energy and Operating Reserve Markets Tariff of Midcontinent Independent System Operator, Inc.

Filed Date: 5/7/14.

Accession Number: 20140507-5207.

Comments Due: 5 p.m. ET 5/28/14.

Docket Numbers: ER14-1913-000.

Applicants: Calpine Oneta Power, LLC.

Description: Revised Market-Based Rate Tariff to be effective 5/9/2014.

Filed Date: 5/8/14.

Accession Number: 20140508-5075.

Comments Due: 5 p.m. ET 5/29/14.

Docket Numbers: ER14-1914-000.

Applicants: Public Service Company of New Mexico.

Description: PNM-Jicarilla PPA to be effective 5/9/2014.

Filed Date: 5/8/14.

Accession Number: 20140508-5076.

Comments Due: 5 p.m. ET 5/29/14.

Docket Numbers: ER14-1915-000.

Applicants: Bayou Cove Peaking Power, LLC.

Description: Revised Market-Based Rate Tariff to be effective 5/9/2014.

Filed Date: 5/8/14.

Accession Number: 20140508-5077.

Comments Due: 5 p.m. ET 5/29/14.

Docket Numbers: ER14-1916-000.

Applicants: Forward WindPower LLC.

Description: Revised Market-Based Rate Tariff to be effective 5/9/2014.

Filed Date: 5/8/14.

Accession Number: 20140508-5078.

Comments Due: 5 p.m. ET 5/29/14.

Docket Numbers: ER14-1917-000.

Applicants: Groen Wind, LLC.

Description: Revised Market-Based Rate Tariff to be effective 5/9/2014.

Filed Date: 5/8/14.

Accession Number: 20140508-5083.

Comments Due: 5 p.m. ET 5/29/14.

Docket Numbers: ER14-1918-000.

Applicants: Hillcrest Wind, LLC.

Description: Revised Market-Based Rate Tariff to be effective 5/9/2014.

Filed Date: 5/8/14.

Accession Number: 20140508-5085.

Comments Due: 5 p.m. ET 5/29/14.

Docket Numbers: ER14-1919-000.

Applicants: Jeffers Wind 20, LLC.

Description: Revised Market-Based Rate Tariff to be effective 5/9/2014.

Filed Date: 5/8/14.

Accession Number: 20140508-5086.

Comments Due: 5 p.m. ET 5/29/14.

Docket Numbers: ER14-1920-000.

Applicants: Laredo Ridge Wind, LLC.

Description: Revised Market-Based Rate Tariff to be effective 5/9/2014.

Filed Date: 5/8/14.

Accession Number: 20140508-5087.

Comments Due: 5 p.m. ET 5/29/14.

Docket Numbers: ER14-1921-000.

Applicants: San Juan Mesa Wind Project, LLC.

Description: Revised Market-Based Rate Tariff to be effective 5/9/2014.

Filed Date: 5/8/14.

Accession Number: 20140508-5088.

Comments Due: 5 p.m. ET 5/29/14.

Docket Numbers: ER14-1922-000.

Applicants: Sleeping Bear, LLC.

Description: Revised Market-Based Rate Tariff to be effective 5/9/2014.

Filed Date: 5/8/14.

Accession Number: 20140508-5089.

Comments Due: 5 p.m. ET 5/29/14.

Docket Numbers: ER14-1923-000.

Applicants: Wildorado Wind, LLC.

Description: Revised Market-Based Rate Tariff to be effective 5/9/2014.

Filed Date: 5/8/14.

Accession Number: 20140508-5090.

Comments Due: 5 p.m. ET 5/29/14.

Docket Numbers: ER14-1924-000.

Applicants: PJM Interconnection, L.L.C.

Description: Notice of Cancellation of Original Service Agreement No. 3342; Queue No. W1-122 to be effective 5/6/2014.

Filed Date: 5/8/14.

Accession Number: 20140508-5110.

Comments Due: 5 p.m. ET 5/29/14.

Docket Numbers: ER14-1925-000.

Applicants: PJM Interconnection, L.L.C.

Description: Notice of Cancellation of Original Service Agreement No. 2977; Queue No. W2-074 to be effective 5/6/2014.

Filed Date: 5/8/14.

Accession Number: 20140508-5114.

Comments Due: 5 p.m. ET 5/29/14.

Docket Numbers: ER14-1926-000.

Applicants: Exelon Generation Company, LLC.

Description: Reassignment Tariff Changes to be effective 7/1/2013.

Filed Date: 5/8/14.

Accession Number: 20140508-5115.

Comments Due: 5 p.m. ET 5/29/14.

Docket Numbers: ER14-1927-000.

Applicants: CED White River Solar 2, LLC.

Description: Application for Market-Based Rate Authorization to be effective 6/1/2014.

Filed Date: 5/8/14.

Accession Number: 20140508-5116.

Comments Due: 5 p.m. ET 5/29/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 8, 2014.
Kimberly D. Bose,
Secretary.

[FR Doc. 2014-11266 Filed 5-15-14; 8:45 am]

BILLING CODE 6717-01-P